DEPARTMENT OF ENERGY

Federal Energy Regulatory Commission

Combined Notice of Filings

Take notice that the Commission has received the following Natural Gas Pipeline Rate and Refund Report filings:

Filings Instituting Proceedings

Docket Number: PR16-52-000.

Applicants: Columbia Gas of Ohio, Inc.

Description: Tariff filing per 284.123(b)(1)/.: COH SOC 4-29-2016 to be effective 4/29/2016; Filing Type: 980.

Filed Date: 5/5/2016.

Accession Number: 201605055099.

Comments/Protests Due: 5 p.m. ET 5/26/16.

Docket Numbers: RP16-936-000.

Applicants: Natural Gas Pipeline Company of America.

Description: Section 4(d) Rate Filing: Remove Expired Agreements to be effective 6/9/2016.

Filed Date: 5/9/16.

Accession Number: 20160509-5123.

Comments Due: 5 p.m. ET 5/23/16.

Docket Numbers: RP16-937-000.

Applicants: Natural Gas Pipeline Company of America.

Description: Section 4(d) Rate Filing: Invenergy Nelson to be effective 6/1/2016.

Filed Date: 5/9/16.

Accession Number: 20160509-5127.

Comments Due: 5 p.m. ET 5/23/16.

Docket Numbers: RP16-938-000.

Applicants: Tallgrass Interstate Gas Transmission, L.

Description: Section 4(d) Rate Filing: Errata to Motion Filing for Rate Case to be effective 5/1/2016.

Filed Date: 5/10/16.

Accession Number: 20160510-5001.

Comments Due: 5 p.m. ET 5/23/16.

Docket Numbers: RP16-939-000.

Applicants: SWN Energy Services Company, LLC,HG Energy, LLC.

Description: Joint Petition of SWN Energy Services Company, LLC, and HG Energy, LLC for Temporary Waivers of Capacity Release Regulations and Policies, and Request for Shortened Comment Period and Expedited Treatment.

Filed Date: 5/9/16.

Accession Number: 20160509-5170.

Comments Due: 5 p.m. ET 5/16/16.

Docket Numbers: RP16-940-000.

Applicants: DBM Pipeline, LLC.

Description: Section 4(d) Rate Filing: Negotiated Rate Filing to be effective 5/11/2016.

Filed Date: 5/10/16.

Accession Number: 20160510-5158.

Comments Due: 5 p.m. ET 5/23/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-137-008.

Applicants: Tallgrass Interstate Gas Transmission, L.

Description: Compliance filing Errata to Motion Filing RP16-137 to be effective 5/1/2016.

Filed Date: 5/10/16.

Accession Number: 20160510-5128.

Comments Due: 5 p.m. ET 5/23/16.

Docket Numbers: RP16-518-002.

Applicants: DBM Pipeline, LLC.

Description: Compliance filing Errata to Compliance Filing to be effective 4/1/2016.

Filed Date: 5/10/16.

Accession Number: 20160510-5029.

Comments Due: 5 p.m. ET 5/23/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2016.
Nathaniel J. Davis, Sr.,
Deputy Secretary.

[FR Doc. 2016-12200 Filed 5-23-16; 8:45 am]

BILLING CODE 6717-01-P